ENVIRONMENTAL PROTECTION AGENCY

[EPA-HQ-OPP-2021-0072; FRL-9150-01-OCSPP]

Issuance of an Experimental Use Permit

AGENCY: Environmental Protection Agency (EPA).

ACTION: Notice.

SUMMARY: EPA issued an experimental use permit (EUP) to the pesticide applicant described in Unit II. of the SUPPLEMENTARY INFORMATION. An EUP permits use of a pesticide for experimental or research purposes only in accordance with the limitations in the permit.

FOR FURTHER INFORMATION CONTACT: Charles Smith, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION:

I. General Information

A. Does this action apply to me?

This action is directed to the public in general. Although this action may be of particular interest to those persons who conduct or sponsor research on pesticides, EPA has not attempted to describe all the specific entities that may be affected by this action.

B. How can I get copies of this document and other related information?

The docket for this action, identified by docket identification (ID) number EPA-HQ-OPP-2021-0072, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room are closed to visitors with limited exceptions. The staff continues to provide remote customer service via email, phone, and webform. For the latest status information on EPA/DC services and docket access, visit https://www.epa.gov/dockets.

II. EUP

EPA issued the following EUP:

69553-EUP-2. Issuance. Andermatt Group AG, Stahlermatten 6, CH-6146 Grossdietwil, Switzerland (c/o Andermatt USA Corp., 107 Gilbreth Parkway, Mullica Hill, NJ 08062). This EUP allows the use of 431 pounds of the pesticide product CX-6485 (containing 0.29 pound of the insecticide Cydia pomonella granulovirus isolate V45) on 400 acres of pome fruit trees (apple and pear), stone fruit trees (peach, nectarine, apricot, and hybrids of these), and walnut trees to evaluate the control of codling moth and Oriental fruit moth. The program is authorized only in the States of California, Colorado, Michigan, New Jersey, New York, Oregon, Pennsylvania, and Washington. The EUP is effective from October 6, 2021 to August 31, 2023. The United States Department of Agriculture submitted a comment in response to the notice of receipt published in the Federal Register of March 19, 2021 (86 FR 14906) (FRL-10021-43), and it conveyed support of issuance of this EUP to allow testing of Cydia pomonella granulovirus isolate V45 at a larger field-level scale in the United States.

Authority: 7 U.S.C. 136 et seq.

Dated: October 18, 2021.
Charles Smith,
Acting Director, Biopesticides and Pollution Prevention Division, Office of Pesticide Programs.

[FR Doc. 2021-23586 Filed 10-28-21; 8:45 am]

BILLING CODE 6560-50-P